DEPARTMENT OF THE INTERIOR

Fish and Wildlife Service

[FWS-R8-ES-2024-N015; FXES11130800000-245-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before April 4, 2024.

ADDRESSES:

Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Take activity | Permit action
148556 | Deborah VanDooremolen, Las Vegas, Nevada | • Southwestern willow flycatcher (Empidonax traillii extimus) • Yuma Ridgway's rail (Rallus obsoletus yumanensis) | NV | Survey using recorded vocalizations | Renew.
009015 | Jason Berkley, Chino, California | • Southwestern willow flycatcher (Empidonax traillii extimus) • San Bernardino Merriam's kangaroo rat (Dipodomys merriami parvus) | CA, AZ | Survey using recorded vocalizations, survey, capture, handle, and release | Renew.
PER7857610 | Rachelle McLaughlin, San Diego, California | • Southwestern willow flycatcher (Empidonax traillii extimus) | CA | Survey using recorded vocalizations | New.
59592B | Angela Johnson, Temecula, California | • Southwestern willow flycatcher (Empidonax traillii extimus) | AZ, CA, NV | Survey using recorded vocalizations | Renew.
804203 | Stephen Myers, Moreno Valley, California | • Southwestern willow flycatcher (Empidonax traillii extimus) • Least Bell's vireo (Vireo bellii pusillus) | CA, NV | Survey using recorded vocalizations, capture, handle, band, and release | Renew.
117947 | Kevin Clark, San Diego, California | • Southwestern willow flycatcher (Empidonax traillii extimus) • Least Bell's vireo (Vireo bellii pusillus) | CA | Survey using recorded vocalizations, locate and monitor nests, and remove brown-headed cowbird (Molothrus ater) eggs and chicks from parasitized nests, capture, handle, band and color-band adults, band nestlings, and release | Renew.
203081 | John Labonte, Goleta, California | • California tiger salamander (Ambystoma californiense), Santa Barbara County distinct population segment • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • El Segundo blue butterfly (Euphilotes battoides allyni) | CA | Survey, pursue, capture, handle, measure, mark, release, collect tail tissue, swab, collect specimens, remove suspected hybrids, temporarily keep in captivity, euthanize hybrids, collect adult vouchers, and collect branchiopod resting eggs | Renew.
53771B | Erin Bergman, La Mesa, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Quino checkerspot butterfly (Euphydryas editha quino) • El Segundo blue butterfly (Euphilotes battoides allyni) • Mission blue butterfly (Icaricia icarioides missionensis) • Casey's June beetle (Dinacoma caseyi) | CA | Survey, survey by pursuit, capture, handle, live-capture (light trap), photograph, release, collect adult vouchers, and collect branchiopod resting eggs | Renew.
115373 | Darin Busby, San Diego, California | • Riverside fairy shrimp (Streptocephalus woottoni) • San Diego fairy shrimp (Branchinecta sandiegonensis) • Quino checkerspot butterfly (Euphydryas editha quino) | CA | Survey, survey by pursuit, capture, handle, release, collect adult vouchers, and collect branchiopod resting eggs | Renew.
72875C | Ian Boyd, Grass Valley, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | Renew.
835549 | Charles Black, San Diego, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • San Diego button-celery (Eryngium aristulatum var. parishii) • San Diego mesa-mint (Pogogyne abramsii) • California Orcutt grass (Orcuttia californica) • Willowy monardella (Monardella viminea) | CA | Survey, handle, collect vouchers, collect branchiopod resting eggs, process vernal pool soil samples, and culture and hatch out branchiopod resting eggs for species identification, remove and reduce to possession from lands under Federal jurisdiction | Renew.
038716 | Frank Wegscheider, Orange, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | Renew.
795934 | ICF Jones & Stokes, Sacramento, California | • California tiger salamander (Ambystoma californiense), Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, swab, release, collect adult vouchers, collect branchiopod resting eggs, and process soil samples for resting egg identification | Renew and amend.
839213 | David Muth, Martinez, California | • California tiger salamander (Ambystoma californiense), Santa Barbara County and Sonoma County distinct population segments • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, swab, release, collect adult vouchers, collect branchiopod resting eggs, and process soil samples for resting egg identification | Renew.
02538D | Gregory Wattley, Templeton, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | Renew.
PER8760170 | Melanie DuBoce, Sacramento, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | New.
172638 | Kevin Livergood, Anaheim, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod resting eggs | Renew.
40090B | Roland Knapp, Mammoth Lakes, California | • Mountain yellow-legged frog (Rana muscosa) northern distinct population segment • Sierra Nevada yellow-legged frog (Rana sierrae) | CA | Survey, capture, handle, swab, measure, collect biological samples, insert passive integrated transponder (PIT) tags, release, collect specimens for voucher and disease analysis and treatment, transport, translocate, captive rear, immunize, conduct research, transport captive reared individuals, and release | Renew.
80906C | Katherine Smith, San Rafael, California | • Salt marsh harvest mouse (Reithrodontomys raviventris) | CA | Capture, handle, mark, collect hair, ear clip, ear tag, radio collar, and release | Renew and amend.
PER0121458 | Donald Hardeman Jr., Cedar Hills, Texas | • California tiger salamander (Ambystoma californiense), Santa Barbara County distinct population segment • Foothill yellow-legged frog (Rana boylii), South Sierra and South Coast distinct population segments | CA | Survey, capture, handle, swab, and release | Amend.
PER6121753 | Andrew Motto, San Ramon, California | • Foothill yellow-legged frog (Rana boylii), South Sierra and South Coast distinct population segments | CA | Survey, capture, handle, swab, and release | New.
71409C | Juliana Woodruff, Benicia, California | • California tiger salamander (Ambystoma californiense), Santa Barbara County and Sonoma County distinct population segments • Foothill yellow-legged frog (Rana boylii), South Sierra and South Coast distinct population segments • Sierra Nevada yellow-legged frog (Rana sierrae) | CA | Survey, capture, handle, swab, and release | Renew.
PER8357570 | Brian Parker, San Diego, California | • Quino checkerspot butterfly (Euphydryas editha quino) • Riverside fairy shrimp (Streptocephalus woottoni) • San Diego fairy shrimp (Branchinecta sandiegonensis) | CA | Survey, pursue, capture, handle, release, collect adult vouchers | New.
094845 | Matthew Bettelheim, Concord, California | • California tiger salamander (Ambystoma californiense), Santa Barbara County and Sonoma County distinct population segments | CA | Survey, capture, handle, swab, and release | Renew.
PER0056759 | Jakob Woodall, El Cerrito, California | • California tiger salamander (Ambystoma californiense), Santa Barbara County and Sonoma County distinct population segments | CA | Survey, capture, handle, swab, and release | Amend.
05665B | Lisa Achter, Grass Valley, California | • California tiger salamander (Ambystoma californiense), Santa Barbara County and Sonoma County distinct population segments | CA | Survey, capture, handle, swab, and release | Renew.
006328 | Michael Drake, Tehachapi, California | • Tipton kangaroo rat (Dipodomys nitratoides nitratoides) • Fresno kangaroo rat (Dipodomys nitratoides exilis) • Giant kangaroo rat (Dipodomys ingens) • Morro Bay kangaroo rat (Dipodomys heermanni morroensis) • Quino checkerspot butterfly (Euphydryas editha quino) • Delhi Sands flower-loving fly (Rhaphiomidas terminatus abdominalis) | CA | Survey, pursue, capture, handle, and release | Renew.
837439 | Guy Bruyea, Hemet, California | • Quino checkerspot butterfly (Euphydryas editha quino) • Delhi Sands flower-loving fly (Rhaphiomidas terminatus abdominalis) | CA | Pursue | Renew.
PER7020315 | Ronald Clark, Lakeside, California | • Riverside fairy shrimp (Streptocephalus woottoni) • San Diego fairy shrimp (Branchinecta sandiegonensis) • Willowy monardella (Monardella viminea) • Del Mar manzanita (Arctostaphylos glandulosa ssp. crassifolia) | CA | Survey, capture, handle, release, collect adult vouchers, and collect branchiopod resting eggs | New.
800777 | Jepson Prairie Preserve Docent Program, Davis, California | • Conservancy fairy shrimp (Branchinecta conservatio) • Longhorn fairy shrimp (Branchinecta longiantenna) • Vernal pool tadpole shrimp (Lepidurus packardi) | CA | Survey, capture, handle, release, collect adult vouchers, and collect branchiopod resting eggs | Renew.
091012 | Molly Goble, San Ramon, California | • California tiger salamander (Ambystoma californiense), Santa Barbara County and Sonoma County distinct population segments | CA | Survey, capture, handle, swab, and release | Renew.
PER8717669 | Mello Dee Hrdlicka, Riverside, California | • San Bernardino Merriam's kangaroo rat (Dipodomys merriami parvus) | CA | Survey, capture, handle, and release | New.
068745 | Jeffrey Wilcox, Vallejo, California | • Foothill yellow-legged frog (Rana boylii), South Sierra and South Coast distinct population segments | CA | Survey, capture, handle, swab, collect tail tissue, mark with passive integrated transponder (PIT) tag and visual implant elastomer (VIE), attach radio transmitters, release, and conduct training workshops for | Amend.
012137 | U.S. Army Garrison Fort Hunter Liggett, Fort Hunter Liggett, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • Least Bell's vireo (Vireo bellii pusillus) • Foothill yellow-legged frog (Rana boylii), South Coast distinct population segment | CA | Survey, capture, band, handle, photograph, collect tail tip or salvaged tissue samples, head-start tadpoles in situ, rescue, transport, temporarily keep in captivity, release, collect adult vouchers, and collect branchiopod resting eggs | Renew and amend.
085026 | Jeff Steinman, San Francisco, California | • Least Bell's vireo (Vireo bellii pusillus) • Southwestern willow flycatcher (Empidonax traillii extimus) | AZ, CA | Survey using recorded vocalizations, locate and monitor nests, and remove brown-headed cowbird (Molothrus ater) eggs and chicks from parasitized nests | Amend.
PER8721022 | Shane Emerson, Sacramento, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense), Santa Barbara County and Sonoma County distinct population segments | CA | Survey, capture, handle, swab, release, and collect adult vouchers | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Rachel Henry,
Acting Regional Ecological Services Program Manager, Pacific Southwest Region, Sacramento, California.

[FR Doc. 2024-04627 Filed 3-4-24; 8:45 am]

BILLING CODE 4333-15-P